DEPARTMENT OF LABOR

Employment and Training Administration

[TA-W-42,312]

Analog Devices, Inc., Norwood, MA; Notice of Termination of Investigation

Pursuant to Section 221 of the Trade Act of 1974, an investigation was initiated on October 28, 2002 in response to petition filed on behalf of workers at Analog Devices, Inc., Norwood, Massachusetts.

The three workers filing the petition worked in different divisions of the firm: Corporate Marketing, ASC, Analog Semiconductor, and Corporate Sales. The petition regarding the investigation has been deemed invalid because the three petitioners are not within the same appropriate subdivision of the firm. Consequently, the investigation has been terminated.

Signed in Washington, DC this 13th day of December, 2002.
Linda G. Poole,
Certifying Officer, Division of Trade Adjustment Assistance.

[FR Doc. 03-406 Filed 1-8-03; 8:45 am]

BILLING CODE 4510-30-P